SMALL BUSINESS ADMINISTRATION

[Declaration of Disaster #3577]

State of Nebraska; Amdt. #1

In accordance with a notice received from the Department of Homeland Security—Federal Emergency Management Agency, effective June 1, 2004, the above numbered declaration is hereby amended to include Adams, Buffalo, Butler, Clay, Dodge, Douglas, Fillmore, Franklin, Hall, Hamilton, Jefferson, Johnson, Kearney, Nuckolls, Otoe, Pawnee, Sarpy, Saunders, Seward, Thayer, Washington, Webster, and York Counties as disaster areas due to damages caused by severe storms, tornadoes, and flooding occurring on May 20, 2004, and continuing through June 1, 2004.

In addition, applications for economic injury loans from small businesses located in the contiguous counties of Burt, Colfax, Cuming, Custer, Dawson, Harlan, Howard, Merrick, Nemaha, Phelps, Platte, Polk, Richardson, and Sherman in the State of Nebraska; Harrison and Pottawattamie Counties in the State of Iowa; Jewell, Nemaha, Phillips, Republic, and Smith Counties in the State of Kansas; and Atchison County in the State of Missouri may be filed until the specified date at the previously designated location. All other counties contiguous to the above named primary counties have been previously declared.

The economic injury number assigned to Missouri is 9ZH800.

All other information remains the same, i.e., the deadline for filing applications for physical damage is July 26, 2004, and for economic injury the deadline is February 25, 2005.

(Catalog of Federal Domestic Assistance Program Nos. 59002 and 59008)
Dated: June 9, 2004.
Herbert L. Mitchell,
Associate Administrator for Disaster Assistance.

[FR Doc. 04-13513 Filed 6-15-04; 8:45 am]

BILLING CODE 8025-01-P